DEPARTMENT OF COMMERCE

International Trade Administration

Export Trade Certificate of Review

ACTION: Notice of issuance of an amended Export Trade Certificate of Review, Application No. 84-18A12.

SUMMARY: On September 17, 2007, The U.S. Department of Commerce issued an amended Export Trade Certificate of Review to Northwest Fruit Exporters (“NFE”).

FOR FURTHER INFORMATION CONTACT: Jeffrey C. Anspacher, Director, Export Trading Company Affairs, International Trade Administration, (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (2004).

Export Trading Company Affairs (“ETCA”) is issuing this notice pursuant to 15 CFR 325.6(b), which requires the U.S. Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

The original NFE Certificate (No. 84-00012) was issued on June 11, 1984 (49 FR 24581, June 14, 1984), and last amended on September 28, 2006 (71 FR 58785, October 5, 2006).

NFE's Export Trade Certificate of Review has been amended to:

1. Add each of the following companies as a new “Member” of the Certificate within the meaning of section 325.2(1) of the Regulations (15 CFR 325.2(1)): K-K Packing & Storage, L.L.C., Zillah, Washington; Manzaneros Mexicanos De Washington, Yakima, Washington; and Valicoff Fruit Co., Inc., Wapato, Washington;

2. Delete the following companies as “Members” of the Certificate: Cascade Fresh Fruits, L.L.C., Manson, Washington; John's Farm L.L.C., Brewster, Washington; Lloyd Garretson Co., Yakima, Washington; Obert Cold Storage, Inc., Zillah, Washington; PAC Marketing International, L.L.C., Yakima, Washington; Rowe Farms, Inc., Naches, Washington; and Voelker Fruit and Cold Storage, Yakima, Washington; and

3. Change the listing of the following “Member”: Sage Processing L.L.C., Wapato and Zillah, Washington to the new listing Pacific Coast Cherry Packers, L.L.C., Yakima, Washington.

The effective date of the amended certificate is June 19, 2007. A copy of the amended certificate will be kept in the International Trade Administration's Freedom of Information Records Inspection Facility, Room 4100, U.S. Department of Commerce, 14th Street and Constitution Avenue, NW., Washington, DC 20230.

Dated: September 17, 2007.
Jeffrey Anspacher,
Director, Export Trading Company Affairs.

[FR Doc. E7-18609 Filed 9-20-07; 8:45 am]

BILLING CODE 3510-DR-P